DEPARTMENT OF COMMERCE

International Trade Administration

[A-583-827]

Static Random Access Memory Semiconductors From Taiwan: Notice of Revocation of Antidumping Duty Order and Termination of Antidumping Duty Administrative Reviews and New Shipper Review

AGENCY: Import Administration, International Trade Administration, Department of Commerce.

SUMMARY: Based on the finding of the U.S. International Trade Commission, the Department of Commerce is revoking the antidumping duty order covering static random access memory semiconductors from Taiwan and terminating the antidumping duty administrative and the new shipper reviews.

EFFECTIVE DATE: January 14, 2002.

FOR FURTHER INFORMATION CONTACT: Irina Itkin or Elizabeth Eastwood, AD/CVD Enforcement Group I, Office II, Import Administration, International Trade Administration, U.S. Department of Commerce, 14th Street and Constitution Avenue, NW., Washington, DC 20230; telephone: (202) 482-0656 or (202) 482-3874, respectively.

SUPPLEMENTARY INFORMATION:

Background

The Department of Commerce (the Department) published the notice of its final less-than-fair-value determination on static random access memory semiconductors (SRAMs) from Taiwan on February 23, 1998. See Notice of Final Determination of Sales at Less Than Fair Value: Static Random Access Memory Semiconductors From Taiwan, 63 FR 8909 (Feb. 23, 1998). On April 9, 1998, the U.S. International Trade Commission (ITC) made its final affirmative determination that a U.S. industry was being materially injured by reason of imports of the subject merchandise. The Department published the notice of its amended final affirmative less-than-fair-value determination on SRAMs from Taiwan on April 16, 1998. See Notice of Amended Final Determination and Antidumping Duty Order of Sales at Less Than Fair Value: Static Random Access Memory Semiconductors From Taiwan, 63 FR 18883 (April 16, 1998). Finally, the Department published the amended antidumping order covering the subject merchandise on April 22, 1998. See Notice of Amended Antidumping Duty Order of Sales at Less Than Fair Value: Static Random Access Memory Semiconductors From Taiwan, 63 FR 19898 (April 22, 1998).

Following publication of the amended antidumping duty order, the Taiwan Semiconductor Industry Association, an interested party, challenged the ITC's final affirmative determination of material injury in an action in the U.S. Court of International Trade (CIT). In two subsequent decisions, the CIT remanded the case to the ITC. See Taiwan Semiconductor Industry Association, et al. v. United States, 59 F. Supp. 2d 1324, 1336 (CIT 1999); see also Taiwan Semiconductor Industry Association v. United States, 93 F. Supp. 2d 1283 (CIT 2000). On the second remand, the ITC determined that an industry in the United States is not being materially injured, nor is it threatened with material injury, by reason of imports of the subject merchandise. The CIT affirmed the ITC's second remand determination on August 29, 2000. See Taiwan Semiconductor Industry Association et al. v. United States, 118 F. Supp. 2d 1250 (CIT 2000).

The domestic industry (Micron Technology) appealed the CIT decision to the CAFC. The CAFC issued a decision on September 21, 2001, affirming the CIT's decision upholding the ITC's second remand determination. See Taiwan Semiconductor Industry Association, 266 F. 3d 1339 (CAFC 2001). On November 5, 2001, the ITC filed a petition for rehearing at the CAFC. The CAFC denied this petition and issued its mandate on December 11, 2001.

Because this decision is now final, the ITC issued its final negative injury determination on December 28, 2001. See Static Random Access Memory Semiconductors From Taiwan; Notice of Final Decision Affirming Remand Determination, 67 FR 345 (January 3, 2002). Accordingly, we are revoking the order with respect to SRAMs from Taiwan. In addition, we are terminating the antidumping duty administrative reviews and the new shipper review of this order.

Scope of the Order

The products covered by this order are synchronous, asynchronous, and specialty SRAMs from Taiwan, whether assembled or unassembled. Assembled SRAMs include all package types. Unassembled SRAMs include processed wafers or die, uncut die and cut die. Processed wafers produced in Taiwan, but packaged, or assembled into memory modules, in a third country, are included in the scope; processed wafers produced in a third country and assembled or packaged in Taiwan are not included in the scope. The scope of this order includes modules containing SRAMs. Such modules include single in-line processing modules, single in-line memory modules, dual in-line memory modules, memory cards, or other collections of SRAMs, whether unmounted or mounted on a circuit board. The scope of this order does not include SRAMs that are physically integrated with other components of a motherboard in such a manner as to constitute one inseparable amalgam (i.e., SRAMs soldered onto motherboards). The SRAMs within the scope of this order are currently classifiable under subheadings 8542.13.8037 through 8542.13.8049, 8473.30.10 through 8473.30.90, 8542.13.8005, and 8542.14.8004 of the Harmonized Tariff Schedule of the United States (HTSUS). Although the HTSUS subheadings are provided for convenience and customs purposes, the written description of the scope of this proceeding is dispositive.

Determination To Revoke and Termination of Reviews

Because the ITC has issued a negative injury determination in the case of SRAMs from Taiwan, we are revoking the antidumping duty order on SRAMs from Taiwan. In addition, we are terminating the administrative reviews on SRAMs from Taiwan for the periods April 1, 1999, through March 31, 2000, and April 1, 2000, through March 31, 2001, and the new shipper review for the period April 1, 2000, through March 31, 2001. Accordingly, we will instruct the Customs Service to terminate suspension of liquidation on all entries of SRAMs from Taiwan from October 1, 1997, to the present and refund all duties deposited by importers plus interest where applicable pursuant to section 778 of the Act.

This notice also serves as the only reminder to parties subject to administrative protective orders (APO) of their responsibility concerning the return or destruction of proprietary information disclosed under APO in accordance with 19 CFR 351.305 of the Department's regulations. Timely notification of the return or destruction of APO materials is hereby requested. Failure to comply with the regulations and terms of an APO is a violation which is subject to sanction.

Dated: January 8, 2002.
Faryar Shirzad,
Assistant Secretary for Import Administration.

[FR Doc. 02-888 Filed 1-11-02; 8:45 am]

BILLING CODE 3510-DS-P